INTERNATIONAL TRADE COMMISSION

[Inv. No. 337-TA-439]

In the Matter of Certain HSP Modems, Software and Hardware Components Thereof, and Products Containing Same; Notice of Commission Determination not to Review an Initial Determination Granting Complainant's Motion for Summary Determination That it Satisfies the Economic Prong of the Domestic Industry Requirement

AGENCY: U.S. International Trade Commission.

ACTION: Notice.

SUMMARY: Notice is hereby given that the U.S. International Trade Commission has determined not to review the presiding administrative law judge's (“ALJ's”) initial determination (“ID”) granting complainant's motion for summary determination that it satisfies the economic prong of the domestic industry requirement of 19 U.S.C. 1337(a)(3).

FOR FURTHER INFORMATION: Timothy P. Monaghan, Esq., Office of the General Counsel, U.S. International Trade Commission, 500 E Street, SW., Washington, DC 20436, telephone 202-205-3152.

SUPPLEMENTARY INFORMATION: The Commission instituted this patent-based section 337 investigation on October 11, 2000, based on a complaint filed by PCTEL, Inc. (“PCTEL”). The respondents named in the investigation are ESS Technology, Inc., Smart Link Ltd., and Smart Link Technologies, Inc.

On March 6, 2001, complaint PCTEL moved pursuant to rule 210.18 for partial summary determination that it satisfies the economic prong of the domestic industry requirement of section 337 for the patents in the investigation. The Commission investigative attorney supported the motion. The respondents did not file a response to the motion.

On March 21, 2001, the ALJ granted the unopposed motion for summary determination on the economic prong of the domestic industry requirement. No petitions for review of the ID were filed.

This action is taken under the authority of section 337 of the Tariff Act of 1930, as amended, 19 U.S.C. 1337, and Commission rule 210.42, 19 CFR 210.42. Copies of the public version of the ALJ's ID and all other nonconfidential documents filed in connection with this investigation are or will be available for inspection during official business hours (8:45 a.m. to 5:15 p.m.) in the Office of the Secretary, U.S. International Trade Commission, 500 E Street, SW., Washington, DC 20436, telephone 202-205-2000. Hearing impaired persons are advised that information on this matter can be obtained by contacting the Commission's TDD terminal on 202-205-1810. General information concerning the Commission may also be obtained by accessing its Internet server (http://www.usitc.gov). The public record for this investigation may be viewed on the Commission's electronic docket (EDIS-ON-LINE) at http://dockets.usitc.gov/eol/public.

Issued: April 5, 2001.
By order of the Commission.
Donna R. Koehnke,
Secretary.

[FR Doc. 01-8907 Filed 4-10-01; 8:45 am]

BILLING CODE 7020-02-P